SMALL BUSINESS ADMINISTRATION

Senior Executive Service: Performance Review Board Members

AGENCY: Small Business Administration.

ACTION: Notice of members for the FY 05 Performance Review Board.

SUMMARY: Section 4314(c)(4) of Title 5, U.S.C.; requires each agency to publish notification of the appointment of individuals who may serve as members of that Agency's Performance Review Board (PRB). The following individuals have been designated to serve on the FY 05 Performance Review Board for the U.S. Small Business Administration:

1. Raul Cisneros, Associate Administrator for Communications and Public Liaison;

2. Thomas A. Dumaresq, Chief Financial Officer;

3. Delorice P. Ford, Assistant Administrator for the Office of Hearings and Appeals;

4. Karen Hontz, Associate Administrator for Government Contracting;

5. Cheryl A. Mills, Associate Deputy Administrator for Entrepreneurial Development;

6. Janet A. Tasker, Deputy Associate Deputy Administrator for Capital Access; and

7. C. Edward Rowe, III, Associate Administrator for Congressional and Legislative Affairs.

Dated: November 30, 2005.
Hector V. Barreto,
Administrator.

[FR Doc. E5-6839 Filed 12-2-05; 8:45 am]

BILLING CODE 8025-01-P